DEPARTMENT OF TRANSPORTATION

Federal Aviation Administration

14 CFR Part 39

[Docket No. FAA-2008-0409; Directorate Identifier 2007-NM-265-AD; Amendment 39-15587; AD 2008-13-24]

RIN 2120-AA64

Airworthiness Directives; ATR Model ATR42 Airplanes and Model ATR72-101, -102, -201, -202, -211, and -212 Airplanes

AGENCY: Federal Aviation Administration (FAA), Department of Transportation (DOT).

ACTION: Final rule.

SUMMARY: We are adopting a new airworthiness directive (AD) for the products listed above. This AD results from mandatory continuing airworthiness information (MCAI) originated by an aviation authority of another country to identify and correct an unsafe condition on an aviation product. The MCAI describes the unsafe condition as:

It has been found on in-service aircraft that some aileron tab bellcrank assemblies were not in accordance with the definition drawings.

The main item concerned is the retainer Part Number S2711004620000, which has been manufactured with a hole larger than it should be, or redrilled out of limits.

The function of the retainer is to maintain the spacer in position in case of rupture or loss of the bolt which links the tab control rod to the bellcrank assembly. If the diameter of the retainer hole is out of limit, the retainer function is lost and fail-safe installation is no longer ensured. This condition, if not corrected, could lead to loss of the aileron tab bellcrank functionality, resulting in diminished control of the aircraft.

* * * * *

We are issuing this AD to require actions to correct the unsafe condition on these products.

DATES: This AD becomes effective August 12, 2008.

The Director of the Federal Register approved the incorporation by reference of certain publications listed in this AD as of August 12, 2008.

ADDRESSES: You may examine the AD docket on the Internet at http://www.regulations.gov or in person at the U.S. Department of Transportation, Docket Operations, M-30, West Building Ground Floor, Room W12-140, 1200 New Jersey Avenue, SE., Washington, DC.

FOR FURTHER INFORMATION CONTACT: Tom Rodriguez, Aerospace Engineer, International Branch, ANM-116, FAA, Transport Airplane Directorate, 1601 Lind Avenue, SW., Renton, Washington 98057-3356; telephone (425) 227-1137; fax (425) 227-1149.

SUPPLEMENTARY INFORMATION:

Discussion

We issued a notice of proposed rulemaking (NPRM) to amend 14 CFR part 39 to include an AD that would apply to the specified products. That NPRM was published in the Federal Register on April 11, 2008 (73 FR 19768). That NPRM proposed to correct an unsafe condition for the specified products. The MCAI states:

It has been found on in-service aircraft that some aileron tab bellcrank assemblies were not in accordance with the definition drawings.

The main item concerned is the retainer Part Number S2711004620000, which has been manufactured with a hole larger than it should be, or redrilled out of limits.

The function of the retainer is to maintain the spacer in position in case of rupture or loss of the bolt which links the tab control rod to the bellcrank assembly. If the diameter of the retainer hole is out of limit, the retainer function is lost and fail-safe installation is no longer ensured. This condition, if not corrected, could lead to loss of the aileron tab bellcrank functionality, resulting in diminished control of the aircraft.

For the reasons stated above, this Airworthiness Directive (AD) requires the inspection [for proper hole diameter] of the aileron tab bellcrank retainer and, if necessary, the restoration of a proper installation [replacing any retainer which does not meet specified limits with a new retainer].

Corrective actions also include doing a general visual inspection (GVI) for discrepancies (corrosion, deformation, scratches, or other defects) of the bolt and fasteners of the bellcrank assembly. You may obtain further information by examining the MCAI in the AD docket.

Comments

We gave the public the opportunity to participate in developing this AD. We received no comments on the NPRM or on the determination of the cost to the public.

Conclusion

We reviewed the available data and determined that air safety and the public interest require adopting the AD as proposed.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow our FAA policies. Any such differences are highlighted in a Note within the AD.

Costs of Compliance

We estimate that this AD will affect about 51 products of U.S. registry. We also estimate that it will take about 2 work-hours per product to comply with the basic requirements of this AD. The average labor rate is $80 per work-hour. Based on these figures, we estimate the cost of this AD to the U.S. operators to be $8,160, or $160 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM, the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2008-13-24 ATR—GIE Avions de Transport Régional (Formerly Aerospatiale): Amendment 39-15587. Docket No. FAA-2008-0409; Directorate Identifier 2007-NM-265-AD.

Effective Date

(a) This airworthiness directive (AD) becomes effective August 12, 2008.

Affected ADs

(b) None.

Applicability

(c) This AD applies to ATR Model ATR42 airplanes, certificated in any category, all models, all serial numbers, except airplanes which have received ATR modification 04372 (aileron spring tab) in production or ATR Service Bulletin ATR42-27-0081 or Service Bulletin ATR42-27-0092 in service; and ATR Model ATR72-101, -102, -201, -202, -211, and -212 airplanes, certificated in any category, all serial numbers, except airplanes which have received ATR modification 04373 (aileron spring tab) in production or ATR Service Bulletin ATR72-27-1045 in service.

Subject

(d) Air Transport Association (ATA) of America Code 27: Flight Controls.

Reason

(e) The mandatory continuing airworthiness information (MCAI) states:

It has been found on in-service aircraft that some aileron tab bellcrank assemblies were not in accordance with the definition drawings.

The main item concerned is the retainer Part Number S2711004620000, which has been manufactured with a hole larger than it should be, or redrilled out of limits.

The function of the retainer is to maintain the spacer in position in case of rupture or loss of the bolt which links the tab control rod to the bellcrank assembly. If the diameter of the retainer hole is out of limit, the retainer function is lost and fail-safe installation is no longer ensured. This condition, if not corrected, could lead to loss of the aileron tab bellcrank functionality, resulting in diminished control of the aircraft.

For the reasons stated above, this Airworthiness Directive (AD) requires the inspection [for proper hole diameter] of the aileron tab bellcrank retainer and, if necessary, the restoration of a proper installation [replacing any retainer which does not meet specified limits with a new retainer].

Corrective actions also include doing a general visual inspection (GVI) for discrepancies (corrosion, deformation, scratches, or other defects) of the bolt and fasteners of the bellcrank assembly.

Actions and Compliance

(f) Within 90 days after the effective date of this AD, unless already done, do the following actions.

(1) Measure the hole diameter of the retainer of the aileron automatic tab bellcrank assembly, in accordance with the Accomplishment Instructions of Avions de Transport Regional Service Bulletin ATR42-27-0098 or ATR72-27-1060, both dated December 19, 2006, as applicable. If the hole diameter is within specified limits, no further actions are required by paragraph (f) of this AD for that retainer.

(2) If any retainer exceeds the hole diameter limits specified in Avions de Transport Regional Service Bulletin ATR42-27-0098 or ATR72-27-1060, both dated December 19, 2006, as applicable, before further flight, replace the retainer with a retainer that meets hole diameter limits, in accordance with the Accomplishment Instructions of the applicable service bulletin. For any airplane for which a replacement retainer is not available, before further flight, do a GVI for discrepancies of the bolt and fasteners of the bellcrank assembly. If any discrepancies of the bolt and fasteners are found, replace the retainer before further flight, in accordance with the Accomplishment Instructions of the applicable service bulletin. If no discrepancies are found, replace the retainer no later than 2 flight days after the hole measurement, in accordance with the Accomplishment Instructions of the applicable service bulletin.

Note 1: For the purposes of this AD, a GVI is: “A visual examination of an interior or exterior area, installation, or assembly to detect obvious damage, failure, or irregularity. This level of inspection is made from within touching distance unless otherwise specified. A mirror may be necessary to ensure visual access to all surfaces in the inspection area. This level of inspection is made under normally available lighting conditions such as daylight, hangar lighting, flashlight, or droplight and may require removal or opening of access panels or doors. Stands, ladders, or platforms may be required to gain proximity to the area being checked.”

FAA AD Differences

Note 2: This AD differs from the MCAI and/or service information as follows: No differences.

Other FAA AD Provisions

(g) The following provisions also apply to this AD:

(1) Alternative Methods of Compliance (AMOCs): The Manager, International Branch, ANM-116, Transport Airplane Directorate, FAA, has the authority to approve AMOCs for this AD, if requested using the procedures found in 14 CFR 39.19. Send information to ATTN: Tom Rodriguez, Aerospace Engineer, International Branch, ANM-116, Transport Airplane Directorate, FAA, 1601 Lind Avenue, SW., Renton, Washington 98057-3356; telephone (425) 227-1137; fax (425) 227-1149. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act, the Office of Management and Budget (OMB) has approved the information collection requirements and has assigned OMB Control Number 2120-0056.

Related Information

(h) Refer to MCAI European Aviation Safety Agency (EASA) Airworthiness Directive 2006-0376, dated December 19, 2006; and Avions de Transport Regional Service Bulletins ATR42-27-0098 and ATR72-27-1060, both dated December 19, 2006; for related information.

Material Incorporated by Reference

(i) You must use Avions de Transport Regional Service Bulletin ATR42-27-0098, dated December 19, 2006; or Avions de Transport Regional Service Bulletin ATR72-27-1060, dated December 19, 2006; as applicable; to do the actions required by this AD, unless the AD specifies otherwise.

(1) The Director of the Federal Register approved the incorporation by reference of this service information under 5 U.S.C. 552(a) and 1 CFR part 51.

(2) For service information identified in this AD, contact ATR, 316 Route de Bayonne, 31060 Toulouse, Cedex 03, France.

(3) You may review copies at the FAA, Transport Airplane Directorate, 1601 Lind Avenue, SW., Renton, Washington; or at the National Archives and Records Administration (NARA). For information on the availability of this material at NARA, call (202) 741-6030, or go to: http://www.archives.gov/federal-register/cfr/ibr-locations.html.

Issued in Renton, Washington, on June 10, 2008.
Ali Bahrami,
Manager, Transport Airplane Directorate, Aircraft Certification Service.

[FR Doc. E8-14477 Filed 7-7-08; 8:45 am]

BILLING CODE 4910-13-P